DEPARTMENT OF THE INTERIOR

Bureau of Land Management

[ID-200-1120-PH]

Notice of May Resource Advisory Council Meeting to be Held in Twin Falls District, ID

AGENCY: Bureau of Land Management, Twin Falls District.

SUMMARY: This notice announces the intent to hold a Bureau of Land Management Resource Advisory Council (RAC) meeting in the Twin Falls District of Idaho on Tuesday, May 17, 2005. The meeting will be held in the Oak Room at the Red Lion Canyon Springs Hotel, 1357 Blue Lakes Boulevard, in Twin Falls, Idaho at 8 a.m.

SUPPLEMENTARY INFORMATION: The Twin Falls District Resource Advisory Council consists of the standard fifteen members residing throughout south central Idaho. The May meeting will be the group's third quarterly meeting. Agenda items will include relocation of the Sun Valley Airport, status of the proposed Cotterell Mountain Wind Energy Project, Grazing Regulation Status, a presentation of the new Idaho BLM Off-Highway Vehicle campaign, and an update on the Jim Sage Vegetation Treatment Project, among other smaller updates.

FOR FURTHER INFORMATION CONTACT: Sky Buffat, Twin Falls District, Idaho, 378 Falls Avenue, Twin Falls, Idaho, 83301, (208) 732-7307.

Dated: April 1, 2005.
Howard Hedrick,
Twin Falls District Manager.

[FR Doc. 05-7011 Filed 4-7-05; 8:45 am]

BILLING CODE 4310-GG-P